DEPARTMENT OF ENERGY

Federal Energy Regulatory Commission

Notice of Meeting, Notice of Vote, Explanation of Action Closing Meeting and List of Persons To Attend

July 24, 2002.

The following notice of meeting is published pursuant to Section 3(a) of the Government in the Sunshine Act (Pub. L. 94-409), 5 U.S.C. 552b:

Agency Holding Meeting: Federal Energy Regulatory Commission.

Date and Time: July 31, 2002 (30 Minutes Following Regular Commission Meeting).

Place: Hearing Room 5, 888 First Street, NE., Washington, DC 20426.

Status: Closed.

Matters To Be Considered: Non-Public. Investigations and Inquiries and Enforcement Related Matters.

Contact Person for More Information: Magalie R. Salas, Secretary, Telephone (202) 208-0400.

Chairman Wood and Commissioners Massey, Breathitt and Brownell voted to hold a closed meeting on July 31, 2002. Attached is the certification of the General Counsel explaining the action closing the meeting.

The Chairman and the Commissioners, their assistants, the Commission's Secretary and her assistant, the General Counsel and members of her staff, and a stenographer are expected to attend the meeting. Other staff members from the Commission's program offices who will advise the Commissioners in the matters discussed will also be present.

Magalie R. Salas,
Secretary.

[FR Doc. 02-19278 Filed 7-25-02; 4:48 pm]

BILLING CODE 6717-01-P